FEDERAL COMMUNICATIONS COMMISSION

47 CFR Part 73

[DA 00-1147; MM Docket No. 99-321; RM-9733]

Radio Broadcasting Services; Grand Isle and Empire, LA

AGENCY: Federal Communications Commission.

ACTION: Final rule.

SUMMARY: In response to a proposal filed on behalf of KBIL, LLC (formerly Blue Dolphin Communications, Inc.), the Commission substitutes Channel 283C2 for Channel 283A at Grand Isle, Louisiana, reallots Channel 283C2 to Empire, Louisiana, as that community's first local aural transmission service, and modifies the authorization for Station KBIL, as requested. See 64 FR 213, November 4, 1999. Coordinates used for Channel 283C2 at Empire are 29-29-07 NL and 89-46-39 WL.

DATES: Effective July 10, 2000.

SUPPLEMENTARY INFORMATION: This is a synopsis of the Commission's Report and Order, MM Docket No. 99-321, adopted May 17, 2000, and released May 26, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Louisiana, is amended by adding Empire, Channel 283C2.

3. Section 73.202(b), the Table of FM Allotments under Louisiana, is amended by removing Grand Isle, Channel 283A.

Federal Communications Commission.
John A. Karousos,
Chief, Allocations Branch, Policy and Rules Division, Mass Media Bureau.

[FR Doc. 00-14381 Filed 6-7-00; 8:45 am]

BILLING CODE 6712-01-P